DEPARTMENT OF THE TREASURY

Internal Revenue Service

Privacy Act of 1974, as Amended; Correction

AGENCY: Internal Revenue Service, Treasury.

ACTION: Notice of Proposed New Privacy Act System of Records; Correction.

SUMMARY: The Department of the Treasury, on behalf of the Internal Revenue Service, published a document in the Federal Register on March 31, 2011, pertaining to a new Privacy Act system of records. The notice contained incorrect addresses.

FOR FURTHER INFORMATION CONTACT: Dale Underwood, Privacy Act Officer, Department of the Treasury, (202)-622-0874 (dale.underwood@treasury.gov).

Correction

In the Federal Register of March 31, 2011, in FR Doc. 2011-7629, on page 17997, in the second column, under “System Location”, correct the location to read “IRS Campus, Ogden, Utah.”

A further correction appears in FR Doc. 2011-7629, on page 17998, in the second column under “Records Access Procedures” correct the second sentence to read: “Inquiries should be addressed to the Disclosure Office listed in Appendix A serving the requester.”

Dated: April 19, 2011.
Melissa Hartman,
Deputy Assistant Secretary for Privacy, Transparency, and Records.

[FR Doc. 2011-10198 Filed 4-26-11; 8:45 am]

BILLING CODE 4830-01-P